DEPARTMENT OF LABOR

Mine Safety and Health Administration

30 CFR part 47

[Docket No. MSHA-2025-0077]

RIN 1219-AC08

Improving and Eliminating Regulations; Hazardous Communication

AGENCY: Mine Safety and Health Administration (MSHA), Department of Labor.

ACTION: Proposed rule; request for comments.

SUMMARY: MSHA is proposing to revise 30 CFR part 47 to allow electronic access to all Hazard Communication (HazCom) materials at no cost to miners. This change would ensure miners have access to information about the chemical hazards where they work while reducing paperwork burdens for operators.

DATES: Comments must be received on or before July 31, 2025.

ADDRESSES: All submissions must include RIN 1219-AC08 or Docket No. MSHA-2025-0077. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AC08 or Docket No. MSHA-2025-0077, by any of the following methods:

1. Federal E-Rulemaking Portal: https://www.regulations.gov. Follow the online instructions for submitting comments.

2. Email: zzMSHA-comments@dol.gov. Include “RIN 1219-AC08” in the subject line of the message.

3. Regular Mail or Hand Delivery: MSHA, Office of Standards, Regulations, and Variances, 200 Constitution Avenue NW, Room C3522, Washington, DC 20210. Before visiting MSHA in person, call 202-693-9440 to make an appointment. No telefacsimiles (“faxes”) will be accepted.

FOR FURTHER INFORMATION CONTACT: Jessica D. Senk, Acting Director, Office of Standards, Regulations, and Variances, MSHA at 202-693-9440 (voice). This is not a toll-free number.

SUPPLEMENTARY INFORMATION:

I. Background

MSHA is proposing to remove existing provisions from title 30 of the Code of Federal Regulations (30 CFR). The existing MSHA standard in 30 CFR 47.71, requires mine operators, upon request, to provide access to all hazard communication (HazCom) materials required by part 47 to the miners and designated representative. The existing standard in § 47.72 requires operators to provide the first copy of each revision of the hazard communication materials without a cost to the miners, and all fees for subsequent copies of materials to be non-discriminatory and reasonable. Amending these provisions would not reduce protections afforded to miners.

The proposed changes would decrease paperwork burdens on mine operators while also maintaining the current protections miners receive by accessing information on hazardous chemicals.

II. Discussion

MSHA proposes to revise § 47.71 to allow mine operators to make HazCom materials available to miners electronically, without cost to miners. Under the Agency's proposed revision, a new paragraph (a) would be added to allow operators to choose to make HazCom materials available either electronically or as hard copies in paper form. The language in proposed paragraph (a) is substantially similar to the existing language in this section with the addition of allowing electronic access. This is a change from existing § 47.71 which requires operators to provide hard copies of HazCom materials. Section 47.71 would be further revised by adding a new paragraph (b) which would, if the operator chooses, make HazCom material available as hard copies and require the operator to provide the first copy and each revision of the HazCom material without cost. Paragraph (b) would also allow operators to charge fees that are non-discriminatory and reasonable for subsequent hard copies of HazCom material. This proposed addition to existing § 47.71 is substantially similar to the language in existing § 47.72. As a result of the proposed revisions and additions to § 47.71, MSHA proposes to remove § 47.72 as it would no longer be necessary.

The proposed changes would decrease paperwork burdens on mine operators while also maintaining the current protections miners receive by accessing information on hazardous chemicals. These actions reflect MSHA's experience and ongoing review of existing regulations to ensure they remain necessary, effective, and aligned with current technologies and mining practices.

MSHA seeks comment on any aspect of this proposed rule.

III. Procedural Issues and Regulatory Review

A. Review Under Executive Orders 12866 and 13563

Executive Order (E.O.) 12866, “Regulatory Planning and Review” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

E.O. 13563, “Improving Regulation and Regulatory Review” 76 FR 3821 (Jan. 21, 2011), requires agencies to use the best available techniques to quantify anticipated present and future benefits and costs as accurately as possible. E.O. 13563 reaffirms the principles of E.O. 12866 while calling for improvements in the nation's regulatory system to promote predictability, reduce uncertainty, and use the best, most innovative, and least burdensome tools for achieving regulatory ends.

E.O. 12866 and E.O. 13563 direct agencies to assess all costs and benefits of available regulatory alternatives and, if regulation is necessary, to select regulatory approaches that maximize net benefits. E.O. 13563 emphasizes the importance of quantifying both costs and benefits, reducing costs, harmonizing rules, and promoting flexibility.

Under section 3(f) of E.O. 12866, a “significant regulatory action” is a regulatory action that is likely to result in a rule that may:

(1) have an annual effect on the economy of $100 million or more, or adversely affect in a material way the economy, a sector of the economy, productivity, competition, jobs, the environment, public health or safety, or state, local, or tribal governments or communities (also referred to as economically significant);

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the E.O.

Background

The proposed regulations would allow all mine operators to provide electronic access to HazCom materials to miners and designated representatives, at their request. The existing standard in 30 CFR 47.72 requires operators to provide the first copy of each revision of the hazard communication materials without a cost to the miners. The proposed changes would decrease paperwork burdens on mine operators while also maintaining the current protections miners receive by accessing information on hazardous chemicals.

On average, each year there are 12,529 mine operations and mining contractors that employ 138,586 miners affected by this proposed rule. All estimated figures are expressed in 2024 dollars.

Benefits

This proposed rule would allow mine operators to provide electronic access to HazCom materials to the miners and designated representatives. The proposal would provide miners and their designated representatives easy access to information about chemical hazards and the measures they can take to protect themselves from these hazards. Electronic copies (instead of paper copies) would reduce the time needed to access HazCom materials and increase efficiency in mine operations, without diminishing safety in underground mines.

Costs Savings

The Agency estimates that each year there are an average of 12,529 mine operations and mining contractors that employ 138,586 miners, that would be affected by this proposed rule. MSHA assumes that approximately 2 percent of these miners (including their designated representatives) request HazCom information each year, meaning there are 2,772 copies being provided to miners. MSHA estimates that, under this proposed rule, 75 percent of these requested copies, or 2,079, would be provided electronically.

MSHA used data from the May 2024 Occupational Employment and Wage Statistics (OEWS) published by the Bureau of Labor Statistics (BLS) for hourly wage rates ¹ and adjusted the rates for benefits,² wage inflation,³ and overhead costs.⁴

¹ To obtain OEWS data, follow BLS's directions in its Frequently Asked Questions: “E. How to get OEWS data. 4. What are the different ways to obtain OEWS estimates from this website?” at https://www.bls.gov/oes/oes_ques.htm.

² The benefit multiplier comes from BLS Employer Costs for Employee Compensation accessed by menu at http://data.bls.gov/cgi-bin/srgate or directly at http://download.bls.gov/pub/time.series/cm/cm.data.0.Current. Insert the data series CMU2030000405000D and CMU2030000405000P, Private Industry Total benefits for Construction, extraction, farming, fishing, and forestry occupations, which is divided by 100 to convert to a decimal value. MSHA uses the latest 4-quarter moving average 2024Q1-2024Q4 to determine that 31.2 percent of total loaded wages are benefits. MSHA computes the benefit multiplier with a number of detailed calculations, but it may be approximated with the formula 1 + (benefit percentage/(1−benefit percentage)). The benefit multiplier is 1.453 = 1+(0.312/(1−0.312)).

³ Wage inflation is the change in Series ID: CIS2020000405000I; Seasonally adjusted; Series Title: Wages and salaries for Private industry workers in Construction, extraction, farming, fishing, and forestry occupations, Index. (https://data.bls.gov/cgi-bin/srgate; Inflation Multiplier = (Current Quarter Cost Index Value/OEWS Wage Base Quarter Index Value). The inflation multiplier is determined by using the employment price index from the most current quarter, 2024Q4, divided by the base year and quarter of the OEWS employment and wage statistics, 2024Q2. The inflation multiplier is 1.022 = 166.7/163.1.

⁴ MSHA uses an overhead rate of 17 percent. This overhead rate is based on a 2002 EPA report by Cody Rice, “Wage Rates for Economic Analysis of the Toxics Release Inventory Program”, available at https://www.regulations.gov/document/EPA-HQ-OPPT-2016-0387-0064.

The total cost savings associated with this proposed rule would result from allowing mine operators to provide electronic copies of HazCom materials, instead of hard copies. The cost savings include:

1. Providing Copies of HazCom Materials to Miners

On average, MSHA estimates that it takes a clerk, earning $45.33 per hour, 12 minutes to prepare a physical copy in response to a request for HazCom information, while the time needed to provide an electronic copy is deemed de minimis. Under the proposed rule, mine operators' annual time burden would be reduced by 416 hours, creating a cost saving of $18,848.⁵

⁵ $18,848 = 2,079 hard copies that are now electronic × 0.2 hours per copy × $45.33 per hour.

2. Printing Copies of HazCom Materials

Additionally, there are cost savings from reduced materials costs to the mine operator or contractor if electronic and not printed copies are provided. On average, each HazCom safety data sheet set is 20 pages. Assuming printing costs are $0.15 per page, MSHA estimates that mine operators and contractors would save $6,237 ⁶ in printing costs annually.

⁶ $6,237 = 2,079 hard copies that are now electronic × 20 pages per copy × $0.15 per page.

Summary

The total compliance cost that would have been incurred during the 10-year analysis period is $0.25 million, undiscounted. For this proposed rule, the Agency estimates that the annualized cost saving across the three discount rates of 0 percent, 3 percent, and 7 percent would be $25,085.

Significant Rules

Under section 6(a) of E.O. 12866, the Office of Management and Budget's (OMB's) Office of Information and Regulatory Affairs (OIRA) determines whether a regulatory action is significant and whether Agencies are required to submit significant regulatory actions to OIRA for review. Under this proposed rule, mine operators are required to provide miners and designated representatives with access to HazCom material electronically or in hardcopy. The annualized cost saving of $25,085 is far below the threshold of $100 million put forth in E.O. 12866. This proposed rule is determined to not constitute a “significant regulatory action” because it does not meet any of the four “significant regulatory action” criteria under section 3(f) of E.O. 12866. Accordingly, this proposed rule was not submitted to OIRA for review under E.O. 12866.

No alternatives were considered for this proposed deregulatory action.

B. Review Under the Regulatory Flexibility Act

The Regulatory Flexibility Act (RFA) of 1980, as amended by the Small Business Regulatory Enforcement Fairness Act (SBREFA) of 1996, requires preparation of an Initial Regulatory Flexibility Analyses (IRFA) for any rule that by law must be proposed for public comment, unless the agency certifies that the rule, if promulgated, will not have a significant economic impact on a substantial number of small entities. The RFA defines small entities to include small businesses, small organizations, including not-for-profit organizations, and small governmental jurisdictions.

MSHA reviewed this proposed rule under the provisions of the RFA, which eliminates burdensome regulations.

MSHA initially concludes that the impacts of this proposed rule would not have a `significant economic impact on a substantial number of small entities,' and that the preparation of an IRFA is not warranted. MSHA will transmit this certification and supporting statement of factual basis to the Chief Counsel for Advocacy of the Small Business Administration for review under 5 U.S.C. 605(b).

C. Review Under the Paperwork Reduction Act

The Paperwork Reduction Act of 1995 (44 U.S.C. 3501 et seq.) provides for the Federal Government's collection, use, and dissemination of information. The goals of the PRA include minimizing paperwork and reporting burdens and ensuring the maximum possible utility from the information that is collected under 5 CFR part 1320. The Paperwork Reduction Act requires Federal agencies to obtain approval from OMB before requesting or requiring “a collection of information” from the public.

This proposed rule does not create new information collections, but results in substantive changes to one currently approved information collection request under OMB Control Number 1219-0133 titled “Hazard Communication.” The currently approved information collection request covers requirements in 30 CFR 47.71 and 47.72, which mandate mine operators and contractors provide all HazCom materials to miners and their designated representatives upon request, without cost to miners.

Under this proposed rule, MSHA amends 30 CFR 47.71 and 47.72 to allow mine operators and contractors to make HazCom information available to miners electronically. This proposed change would decrease paperwork burden and cost to mine operators and contractors when providing miners with copies of HazCom information, while maintaining protection for miners from hazardous chemicals. MSHA proposes to revise the supporting statement for the information collection request 1219-0133 to reflect these changes and seek public comment on these changes.

Type of Review: Substantive Change to currently approved information collection.

OMB Control Number: 1219-0133.

Title: Hazard Communication.

Description of the ICR:

Background

Under 30 CFR 47.71 and 47.72, MSHA's standards require mine operators to provide information to miners concerning chemical hazards by means of a written HazCom program including a list of all hazardous chemicals.

MSHA estimates that there are 15,021 mining operations impacted by this information collection, of which 1,913 are coal mine operations and 13,108 are MNM mine operations. Among 15,021 coal and MNM mines, there are 12,235 mines with 1 to 19 employees and 2,786 mines employed 20 or more workers.

Summary of Changes

This substantive change request will change the supporting statement for this information collection request due to a modification in the recordkeeping requirements in 30 CFR 47.71 and 47.72. The existing standards require contractors and operators to provide, upon request, access to all HazCom materials required by part 47 to miners and designated representatives. The first copy and each revision of the HazCom material must be provided without cost. Operators and contractors may charge fees for subsequent copies of the HazCom material if the fees are non-discriminatory and reasonable. The proposed revisions would allow mine operators to provide HazCom materials to miners and their designated representatives in both electronic and physical form. This change does not modify the authority or number of affected mine operators and contractors, but it decreases the paperwork burden and costs associated with providing copies of HazCom materials to miners as captured by this information collection request.

The number of respondents, frequency of response, annual hour burden, and recordkeeping cost are described in this section.

1-1. Developing New HazCom Programs (30 CFR 47.31(a) and 47.32)

Under 30 CFR 47.31(a), operators must develop and implement written HazCom programs for as long as a hazardous chemical is known to be at the mine. 30 CFR 47.32(a) requires programs to include hazard determination, labels and other forms of warning, MSDSs, and miner training. Under 30 CFR 47.32(b), operators must have a list or other records identifying all hazardous chemicals known to be at the mine. The list must use a chemical identity that permits cross-referencing between the list, a chemical's label, and its MSDS; and be compiled for the whole mine or by individual work areas.

All new mine operators are required to develop HazCom programs under this provision. MSHA estimates that 518 new operations that employ between 1 to 19 employees and 22 operations that employ 20 or more employees will need develop new HazCom programs annually.

On average, the estimated time to develop a HazCom program is 8 hours of a mining supervisor's time and 4 hours of a clerical worker's time for operations that employ between 1 to 19 employees, and 16 hours of a mining supervisor's time and 8 hours of a clerical worker's time for operations that employ 20 or more employees.

MSHA estimates that it takes a mining supervisor, earning $82.31 per hour, 8 hours for operations employing between 1 to 19 employees and 16 hours for operations with 20 or more employees to develop a HazCom program. MSHA estimates that it takes a clerk, earning $45.33 per hour, 4 hours for operations employing between 1 to 19 employees and 8 hours for operations with 20 or more employees to record and file to a new HazCom program.

Additionally, mine operators need to mail the new HazCom programs to MSHA. Material costs, copying, and distribution for developing the HazCom program are estimated to be $2.40 per operation for that employ between 1 to 19 employees and $4 per operation that employing 20 or more employees.

The proposed rule does not impact this information collection cost. The number of annual respondents is 540, the number of annual responses is 540, the annual burden hours is 6,744, and the annual recordkeeping cost to respondents is $1,331 to develop new HazCom programs.

1-2. Updating Existing HazCom Programs (30 CFR 47.31(b) and 47.32)

Under 30 CFR 47.31(b), operators are required to maintain written HazCom programs for as long as a hazardous chemical is known to be at the mine. Under 30 CFR 47.32(a), programs must include hazard determination, labels and other forms of warning, MSDSs, and miner training. Mine operators (which includes contractors) working on mine property periodically need to update their HazCom programs including creating lists of all hazardous chemicals. Under 30 CFR 47.31(c), operators must share relevant HazCom information with other on-site operators whose miners can be affected.

MSHA estimates that there are 12,235 mining operations that employ between 1 to 19 employees and 2,786 mining operations that employ 20 or more employees. MSHA estimates that every mine will update their HazCom programs at least annually.

MSHA estimates that it takes a mining supervisor, earning $82.31 per hour, 1 hour for operations employing 1 to 19 employees and 2 hours for operations with 20 or more employees to update an existing HazCom program. MSHA estimates that it takes a clerk, earning $45.33 per hour, 30 minutes for operations employing between 1 to 19 employees and 1 hour for operations with 20 or more employees to record and file updates to an existing HazCom program.

The proposed rule does not impact this information collection cost. The number of annual respondents is 15,021, the number of annual responses is 15,021, the annual burden hours is 26,711, and the annual recordkeeping cost to respondents is $0 to update existing HazCom programs.

1-3. Recordkeeping HazCom Training (30 CFR 47.32(a)(4))

Under 30 CFR 47.32(a)(4), miner must complete training for the HazCom program. Mine operators need time to manage and administer HazCom training programs each year. The administrative time requirements include preparing, copying, distributing, and maintaining training certificates, transcripts, maintaining the list of hazardous chemicals known at the mine, and other associated records. MSHA estimates that 12,235 mining operations that employ between 1 to 19 employees and 2,786 mining operations that employ 20 or more employees will need to administer HazCom training programs annually.

MSHA estimates that it takes a mining supervisors, earning $82.31 per hour, 15 minutes for operations employing between 1 to 19 employees and 30 minutes for operations with 20 or more employees to update any changes to and certify that miners have received HazCom training. MSHA estimates that it takes a clerk, earning $45.33 per hour, 30 minutes for operations employing between 1 to 19 employees and 1 hour for operations with 20 or more employees to record and file and update records of HazCom training. The proposed rule does not impact this information collection cost. The number of annual respondents is 15,021, the number of annual responses is 15,021, the annual burden hours is 13,355, and the annual recordkeeping cost to respondents is $0 to make records of HazCom training.

2. Labeling Containers (30 CFR 47.41, 47.43, and 47.44)

Under 30 CFR 47.41(a), operators are required to ensure that each container of a hazardous chemical has a label. Under 30 CFR 47.41(b), or each hazardous chemical produced at the mine, operators must prepare a container label and update this label with any significant, new information about the chemical's hazards within 3 months of becoming aware of this information. Under 30 CFR 47.41(c), for each hazardous chemical brought to the mine, operators must replace an outdated label when a revised label is received from the chemical's manufacturer or supplier.

Under 30 CFR 47.43, operators are allowed to use signs, placards, process sheets, batch tickets, operating procedures, or other label alternatives for individual, stationary process containers provided that the alternative identifies the container to which it applies, communicates the same information as required on the label, and is readily available throughout each work shift to miners in the work area.

Under 30 CFR 47.44, operators need to label temporary, portable containers if miners using the portable container do not know what is in the container or if the container is not empty at the end of the shift.

Mine operators are required to ensure that all containers of hazardous chemicals are appropriately labeled. MSHA estimates that 12,235 mining operations that employ between 1 to 19 employees and 2,786 mining operations that employ 20 or more employees will need to label containers annually as well as revise and update them.

On average, there are 5 containers, on-site, at mining operations that employ between 1 to 19 employees, and 62 containers, on-site, at mining operations that employ 20 or more employees. MSHA estimates that 50 percent of the containers at mining operations employing between 1 to 19 employees and 33 percent of the containers at operations employing 20 or more employees will need new or updated labeling. This leads to 30,588 labels (=12,235 mines × 5 containers × 50%) at mining operations employing between 1 to 19 employees, and 57,002 labels (=2,786 mines × 62 containers × 33%) at mining operations employing 20 or more employees.

For all operations, MSHA estimates it takes a mining supervisor, earning $82.31 per hour, 12 minutes to verify or fill-out the label information and apply it to a container.

MSHA estimate that at mines with 1-19 employees, 50 percent of containers will need new labels created, and mines with 20 or more employees, thirty-three percent of containers will need new labels created. This leads to 7,563 labels (= 3,025 mines × 5 containers × 50%) to be printed at mining operations employing between 1 to 19 employees, and 16,839 labels (=823 mines × 62 containers × 33%) mining operations employing 20 or more employees.

Material costs for labeling are estimated to be $0.10 per container labeled and do not differ for an initial label or a label update. These material costs include copying costs (including any special copy media such as plasticized or weather-proof material) and distribution costs.

The proposed rule does not impact this information collection cost. The number of annual respondents is 15,021, the number of annual responses is 87,590, the annual burden hours is 17,518, and the annual recordkeeping cost to respondents is $2,440 to make records of HazCom training.

3-1. Developing New MSDS (30 CFR 47.51(a) and 47.53)

Under 30 CFR 47.51(a), operators must develop a Material Safety Data Sheet (MSDS) for each hazardous chemical which they produce or use. If the mine produces or uses hazardous waste, under 30 CFR 47.53, operators must provide potentially exposed miners and designated representatives access to available information for the hazardous waste that identifies its hazardous chemical components, describes its physical or health hazards, or specifies appropriate protective measures.

Mine operators must create an MSDS for each hazardous chemical produced at a new mine site. MSHA estimates that 518 mining operations employing between 1 to 19 employees and 22 mining operations employing 20 or more employees will begin producing chemicals annually.

On average, MSHA estimates that operations that employ between 1 to 19 employees create, annually, one new chemical; and operations that employ 20 or more employees create, annually, four new chemicals. MSHA estimates that it takes a mining supervisor, earning $82.31 per hour, 2 hours to develop an MSDS and a clerical worker, earning $45.33 per hour, 1 hour to prepare the sheet. Material costs for developing MSDS are estimated to be $2 per MSDS. Materials costs include copying costs (including any special copy media such as plasticized or weather-proof material etc.) and distribution costs.

The proposed rule does not impact this information collection cost. The number of annual respondents is 540, the number of annual responses is 606, the annual burden hours is 1,818, and the annual recordkeeping cost to respondents is $1,212 to develop new MSDS.

3-2. Updating MSDS (30 CFR 47.51(c))

Although operators are not responsible for an inaccurate MSDS obtained from the chemical's manufacturer, supplier, or other source, under 30 CFR 47.51(c) operators are required to replace an outdated MSDS upon receipt of an updated revision and obtain an accurate MSDS as soon as possible after becoming aware of an inaccuracy.

MSHA estimates that 12,235 mining operations employing between 1 to 19 employees and 2,786 mining operations employing 20 or more employees will need to update MSDS for the chemicals they produce or use at the mine annually.

MSHA estimates that 25 percent of mines with 1 to 19 employees that and 75 percent of mines with 20 or more employees will need to update for chemicals produced at the mine site.

On average, MSHA estimates that it takes a mining supervisor, earning $82.31 per hour, 1 hour and a clerk, earning $45.33 per hour, 30 minutes to update an MSDS.

MSHA estimates that 6,196 mining operations employing between 1 to 19 employees and 1,306 mining operations employing 20 or more employees will need to update MSDS annually using physical copies as opposed to electronic versions. Material costs for updating MSDS are estimated to be $1 per MSDS. The material costs include copying costs (including any special copy media such as plasticized or weather-proof material etc.) and distribution costs.

The proposed rule does not impact this information collection cost. The number of annual respondents is 15,021, the number of annual responses is 5,149, the annual burden hours is 7,724, and the annual recordkeeping cost to respondents is $2,529 to update MSDS.

3-3. Providing Hazardous Waste Information to Miners (30 CFR 47.53)

If the mine produces or uses hazardous waste, under 30 CFR 47.53, operators must provide potentially exposed miners and designated representatives access to available information that identifies the hazardous chemical components for the hazardous waste, describes its physical or health hazards, or specifies appropriate protective measures. The burden for this is de minimis.

The proposed rule does not impact this information collection cost. The number of annual respondents is 15,021, the number of annual responses is 0, the annual burden hours is 0, and the annual recordkeeping cost to respondents is $0 to provide hazardous waste information to miners.

3-4. Providing MSDS Copies to Miners (30 CFR 47.54)

Under 30 CFR 47.54, operators must have copies of MSDS for all hazardous chemicals present at the mine and to maintain availability of those MSDS for all affected miners. OSHA and other federal and state regulatory agencies require chemical manufacturers to supply one or more copies of applicable MSDS on purchase and delivery of their products.

Therefore, MSHA has determined that there is no additional burden to operators that has not been addressed by the requirements to develop, update, and maintain a HazCom Program.

The proposed rule does not impact this information collection cost. The number of annual respondents is 15,021, the number of annual responses is 0, the annual burden hours is 0, and the annual recordkeeping cost to respondents is $0 to provide hazardous waste information to miners.

Under 30 CFR 47.55(a), operators must retain its MSDS for as long as the hazardous chemical is known to be at the mine. Part of retaining a mine's MSDS. MSHA also estimates that the cost burden of maintaining a mine's MSDS differs between mines with internet access versus without.

3-5A. Maintaining MSDS With Internet (30 CFR 47.55(a))

MSHA estimates that 11,272 mining operations will need to maintain MSDS annually through internet. In addition, MSHA estimates that it takes a clerk, earning $45.33 per hour, 3 minutes to maintain the MSDS.

The proposed rule does not impact this information collection cost. The number of annual respondents is 11,272, the number of annual responses is 11,272, the annual burden hours is 564, and the annual recordkeeping cost to respondents is $0 to maintain MSDS with internet.

3-5B. Maintaining MSDS Without Internet (30 CFR 47.55(a))

With respect to mining operations without internet access, MSHA estimates that 3,680 operations employing between 1 to 19 employees and 69 operations employing 20 or more employees will need to maintain MSDS annually without internet. On average, the MSHA estimates there are 40 MSDS per mining operation that employs between 1 to 19 employees and 70 MSDS per operation that employs 20 or more employees that need maintenance.

For all mining operations without internet access in all mine size categories, MSHA estimates that it takes a clerk, earning $45.33 per hour, 3 minutes to maintain the MSDS.

The proposed rule does not impact this information collection cost. The number of annual respondents is 3,749, the number of annual responses is 152,030, the annual burden hours is 7,602, and the annual recordkeeping cost to respondents is $0 to maintain MSDS without internet.

3-6. Removing MSDS (30 CFR 47.55(b))

Under 30 CFR 47.55(b), operators are required to notify miners at least 3 months before disposing of the MSDS.

MSHA assumes that only some operators without internet access will remove MSDS every year. Operations with internet access are assumed to retain all the MSDS in their electronic database and any burden for that is de minimis.

With respect to mining operations without internet access, MSHA estimates that 1,272 operations that employ between 1 to 19 employees will prepare, on average, 10 MSDS removal announcements annually. In addition, MSHA estimates that 24 operations employing 20 or more employees will prepare, on average, 18 MSDS removal announcements annually.

For all operations without internet access in all size categories, MSHA estimates that it takes a mining supervisor, earning $82.31 per hour, 3 minutes to remove the MSDS.

The proposed rule does not impact this information collection cost. The number of annual respondents is 1,296, the number of annual responses is 13,152, the annual burden hours is 658, and the annual recordkeeping cost to respondents is $0 to remove MSDS.

4. Making HazCom Available (30 CFR 47.71)

Under 30 CFR 47.71, operations must provide the first copy and each revision of the HazCom material without cost to miners and designated representatives.

MSHA estimates that 10,563 mining operations employing between 1 to 19 employees, 1,966 mining operations employing 20 or more employees will need to provide copies of HazCom information to employees that request them annually. MSHA estimates that 2 percent of miners (including designated representatives) will request such information. The average numbers of miners per operation are as follows: 4 miners per mining operation employing between 1 to 19 employees; 49 miners per mining operation employing 20 or more employees. This results in on average 845 requests (=10,563 mins × 4 miners × 2%) per mining operation employing between 1 to 19 employees and 1,927 requests (=1,966 mines × 49 miners × 2%) per mining operation employing 20 or more employees, for a total of 2,772 requests annually.

Under the proposed rule mine operators will be able to provide electronic copies of the HazCom to miners instead of physical copies. MSHA assumes that 75 percent of the 2,772 requests (2,079 requests) will receive electronic copies due to the proposed rule. MSHA assumes that the cost to mine operators to provide these electronic copies is di minimus. For the 693 requests that will receive physical copies, MSHA assumes that it takes a clerk, earning $45.33 per hour, 12 minutes to process each physical HazCom information request.

Photocopy costs are estimated to be $3 per request while the copies that are provided electronically don't incur any additional costs.

This proposed rule would result in a reduction of information collection cost. The number of annual respondents remains unchanged at 12,529, the number of annual responses decreases from 2,772 to 693, the annual burden hour decreases from 555 to 139 hours, and the annual recordkeeping cost to respondents decreases from $8,316 to $2,079 to make HazCom available.

5. Providing Copies of Label Information and MSDS to Customers (30 CFR 47.73)

For a hazardous chemical produced at the mine, under 30 CFR 47.73, operators must provide customers, upon request, with the chemical's label or a copy of the label information, and the chemical's MSDS.

MSHA estimates that 10,714 operations that employ between 1 to 19 employees and 1,966 mining operations that employ 20 or more employees need to provide copies of HazCom labeling information and MSDS to customers annually.

On average, MSHA estimates 22 customers make requests per operation employing between 1 to 19 employees, and 42 customers per operation employing 20 or more employees. MSHA assumes there will be 58,927, for mines with 1 to 19 employees, and 20,643, for mines with 20 or more employees, requests for physical HazCom copies.

On average, MSHA estimates that it takes a clerk, earning $45.33 per hour, 12 minutes to copy and distribute HazCom labeling information or MSDS to a customer. Photocopy costs are estimated to be $0.60 per request.

The proposed rule does not impact this information collection cost. The number of annual respondents is 12,680, the number of annual responses is 318,280, the annual burden hours is 63,656 and the annual recordkeeping cost to respondents is $47,742 to provide copies of label information and MSDS to customers.

6. Withholding Trade Secrets (30 CFR 47.81, 47.82, and 47.84)

Under 30 CFR 47.81, operators are allowed to withhold the identity of a trade secret chemical, including the name and other specific identification, from the written list of hazardous chemicals, the label, and the MSDS, provided that operators can support the claim that the chemical's identity is a trade secret, identifies the chemical in a way that it can be referred to without disclosing the secret, indicates in the MSDS that the chemical's identity is withheld as a trade secret, and discloses in the MSDS information on the properties and effects of the hazardous chemical.

Under 30 CFR 47.82, operators must make the chemical's identity available to miners, the miner's designated representatives, and health professionals in accordance with the provisions listed in 30 CFR 47.84.

MSHA is aware that most operators produce single substances that are not proprietary. Furthermore, there are few if any requests to mines to withhold or disclose trade secrets. MSHA assumes the burden for this is de minimis.

The proposed rule does not impact this information collection cost. The number of annual respondents is 0, the number of annual responses is 0, the annual burden hours is 0, and the annual recordkeeping cost to respondents is $0 for withholding trade secrets.

7. Denying Requests To Disclose Trade Secrets (30 CFR 47.86)

Under 30 CFR 47.86(a), operators can deny a request to disclose the identity of trade secret chemicals.

MSHA is aware that most operators produce single substances that are not proprietary. Furthermore, there are few if any denials to disclose trade secrets by mine operators. MSHA assumes the burden for this is de minimis.

The proposed rule does not impact this information collection cost. The number of annual respondents is 0, the number of annual responses is 0, the annual burden hours is 0, and the annual recordkeeping cost to respondents is $0 to deny a request to disclose trade secrets.

8. Submitting to MSHA To Appeal Denial of Request To Disclose Trade Secrets (30 CFR 47.87)

Under 30 CFR 47.87(a), the health professional, miner, or designated representative may refer the written denial to MSHA for review.

Since MSHA assumes there are no requests for mines to disclose trade secrets there would be no denials to disclose this information or appeals. MSHA thus assumes that the burden for this is de minimis.

The proposed rule does not impact this information collection cost. The number of annual respondents is 0, the number of annual responses is 0, the annual burden hours is 0, and the annual recordkeeping cost to respondents is $0 to appeal a denial of a request to disclose trade secrets.

Summary of the Collection of Information

Under the proposed rule, the estimated number of responses, burden hours and recordkeeping costs to respondents would decrease from the currently approved information collection request. The reduction in information collection cost comes from making HazCom available electronically.

Affected Public: Businesses or For-Profit.

Estimated Number of Respondents: 15,021 (0 from this proposed rule).

Frequency: On occasion.

Estimated Number of Responses: 619,354 (−2,079 from this proposed rule).

Estimated Number of Burden Hours: 146,487 (−416 from this proposed rule).

Estimated Recordkeeping Costs to Respondents: $57,333 (−$6,237 from this proposed rule).

D. Review Under Executive Order 13132

E.O. 13132, “Federalism” 64 FR 43255 (August 10, 1999), imposes certain requirements on Federal agencies formulating and implementing policies or regulations that preempt State law or that have federalism implications. The E.O. requires agencies to examine the constitutional and statutory authority supporting any action that would limit the policymaking discretion of the States and to carefully assess the necessity for such actions. The E.O. also requires agencies to have an accountable process to ensure meaningful and timely input by State and local officials in the development of regulatory policies that have federalism implications.

MSHA has examined this proposed rule and has determined that it would not have a substantial direct effect on the States, on the relationship between the national government and the States, or on the distribution of power and responsibilities among the various levels of government.

E. Review Under Executive Order 12988

With respect to the review of existing regulations and the promulgation of new regulations, section 3(a) of E.O. 12988, “Civil Justice Reform” 61 FR 4729 (Feb. 7, 1996) imposes on Federal agencies the general duty to adhere to the following requirements: (1) eliminate drafting errors and ambiguity; (2) write regulations to minimize litigation; (3) provide a clear legal standard for affected conduct rather than a general standard; and (4) promote simplification and burden reduction. Regarding the review required by section 3(a), section 3(b) of E.O. 12988 specifically requires that Executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General.

Section 3(c) of E.O. 12988 requires Executive agencies to review regulations in light of applicable standards in section 3(a) and section 3(b) to determine whether they are met or it is unreasonable to meet one or more of them. MSHA has completed the required review and determined that, to the extent permitted by law, this proposed rule meets the relevant standards of E.O. 12988.

F. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)). The UMRA also requires a Federal agency to develop an effective process to permit timely input by elected officers of State, local, and Tribal governments on a “significant intergovernmental mandate,” and requires an agency plan for giving notice and opportunity for timely input to potentially affected small governments before establishing any requirements that might significantly or uniquely affect them.

MSHA examined this proposed rule according to UMRA and its statement of policy and determined that the proposal does not contain a Federal intergovernmental mandate, nor is it expected to require expenditures of $100 million or more in any one year by State, local, and Tribal governments, in the aggregate, or by the private sector. As a result, the analytical requirements of UMRA do not apply.

G. Review Under the National Environmental Policy Act

The National Environmental Policy Act (NEPA) of 1969 (42 U.S.C. 4321 et seq.), requires each Federal agency to consider the environmental effects of regulatory actions and to prepare an environmental impact statement on Agency actions that would significantly affect the quality of the environment; unless the action is considered categorically excluded under 29 CFR 11.10. MSHA has reviewed the proposed rule in accordance with NEPA requirements and the Department of Labor's NEPA procedures (29 CFR part 11). As a result of this review, MSHA has determined that this proposed rule would not impact air, water, or soil quality, plant or animal life, the use of land or other aspects of the human environment. Therefore, MSHA has not conducted an environmental assessment nor provided an environmental impact statement.

H. Review Under the Treasury and General Government Appropriations Act, 1999

Section 654 of the Treasury and General Government Appropriations Act, 1999 (Pub. L. 105-277) requires Federal agencies to issue a Family Policymaking Assessment for any rule that may affect family well-being. This proposed rule would not have any impact on the autonomy or integrity of the family as an institution. Accordingly, MSHA has concluded that it is not necessary to prepare a Family Policymaking Assessment.

I. Review Under Executive Order 12630

Pursuant to E.O. 12630, “Governmental Actions and Interference with Constitutionally Protected Property Rights” 53 FR 8859 (March 18, 1988), MSHA has determined that this proposed rule would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). MSHA has reviewed this proposed rule and has concluded that it is consistent with applicable policies in the OMB guidelines.

K. Review Under Executive Order 13175

E.O. 13175, “Consultation and Coordination With Indian Tribal Governments” 65 FR 67249 (Nov. 9, 2000), requires agencies to consult with tribal officials when developing policies that may have “tribal implications.” This proposed rule does not have “tribal implications” because it will not “have substantial direct effects on one or more Indian tribes, on the relationship between the Federal Government and Indian tribes, or on the distribution of power and responsibilities between the Federal Government and Indian tribes.” Accordingly, under E.O. 13175, no further Agency action or analysis is required.

L. Review Under Executive Order 13211

E.O. 13211, “Actions Concerning Regulations That Significantly Affect Energy Supply, Distribution, or Use” 66 FR 28355 (May 22, 2001), requires agencies to publish a statement of energy effects when a rule has a significant energy action that adversely affects energy supply, distribution, or use. MSHA has reviewed this proposed rule for its energy effects. For the energy analysis, this proposed rule will not exceed the relevant criteria for adverse impact.

M. Review Under Additional Executive Orders and Presidential Memoranda

MSHA has examined this proposed rule and has determined that it is consistent with the policies and directives outlined in E.O. 14154, “Unleashing American Energy” 90 FR 8353 (Jan. 29, 2025); E.O. 14192, “Unleashing Prosperity Through Deregulation” 90 FR 9065 (Feb. 6, 2025); and the Presidential Memorandum, “Delivering Emergency Price Relief for American Families and Defeating the Cost-of-Living Crisis” 90 FR 8245 (Jan. 28, 2025). This proposed rule is expected to be an E.O. 14192 deregulatory action.

List of Subjects in 30 CFR Part 47

Chemicals, Hazardous substances, Labeling, Mine safety and health, Reporting and recordkeeping requirements.

For the reasons discussed in the preamble, and under the authority of the Federal Mine Safety and Health Act of 1977, as amended by the Mine Improvement and New Emergency Response Act of 2006, MSHA proposes to amend chapter I of title 30 of the Code of Federal Regulations as follows:

PART 47—HAZARD COMMUNICATION (HazCom)

Subpart H—Making HazCom Information Available

1. The authority citation for part 47 continues to read as follows:

Authority: 30 U.S.C. 811, 825.

2. Revise § 47.71 to read as follows:

§ 47.71 Access to HazCom materials.

(a) Upon request, the operator must provide access electronically or in hardcopy to all HazCom materials required by this part to miners and designated representatives without cost, except as provided in § 47.81 through § 47.87 (provisions for trade secrets).

(b) If the mine operator provides access for miners and designated representatives to HazCom materials in hardcopy:

(1) The operator must provide the first copy and each revision of the HazCom material without cost; and

(2) Fees for a subsequent copy of the HazCom material must be non-discriminatory and reasonable.

§ 47.72 [Removed and Reserved]

3. Remove and reserve § 47.72.

James P. McHugh,
Deputy Assistant Secretary for Policy Mine Safety and Health Administration.

[FR Doc. 2025-11617 Filed 6-30-25; 8:45 am]

BILLING CODE 4520-43-P